DEPARTMENT OF THE INTERIOR

Fish and Wildlife Service

[FWS-R6-ES-2008-N0229; 60120-1113-0000-D2]

Endangered and Threatened Wildlife and Plants; Permits

AGENCY: Fish and Wildlife Service, Interior.

ACTION: Notice of receipt of applications for permits.

SUMMARY: We announce our receipt of applications to conduct certain activities pertaining to enhancement of survival of endangered species.

DATES: Written comments on this request for a permit must be received by October 17, 2008.

ADDRESSES: Written data or comments should be submitted to the Assistant Regional Director-Ecological Services, U.S. Fish and Wildlife Service, P.O. Box 25486, Denver Federal Center, Denver, Colorado 80225-0486; facsimile 303-236-0027. Before including your address, phone number, e-mail address, or other personal indentifying information in your comment, you should be aware that your entire comment—including your personal identifying information—may be made publicly available at any time. While you can ask us in your comment to withhold your personal identifying information from public review, we cannot guarantee that we will be able to do so. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

SUPPLEMENTARY INFORMATION: The following applicants have requested issuance of enhancement of survival permits to conduct certain activities with endangered species pursuant to Section 10(a)(1)(A) of the Endangered Species Act of 1973, as amended (16 U.S.C. 1531 et seq.).

Applicant—Bureau of Land Management, Utah Field Office, Salt Lake City, Utah, TE-165829. The applicant requests a permit amendment to add survey for Lepidium barnebyanum (Barneby ridge-cress), Schoenocrambe argillacea (Barneby reed-mustard), Astragalus holmgreniorum (Holmgren milk-vetch), Lesquerella tumulosa (Kodachrome bladderpod), Pediocactus despainii (San Rafael cactus), Astragalus ampullarioides (Shivwitz milk-vetch), Schoenocrambe suffrutescens (Shrubby reed-mustard), Sclerocactus wrightiae (Wright cactus) on National Park Service land in Utah in conjunction with recovery activities throughout the species' range for the purpose of enhancing its survival and recovery.

Applicant—Denver Botanic Gardens, Denver, Colorado, TE-106182. The applicant requests a permit amendment to add survey for Eriogonum pelinophilum (Clay-loving wild-buckwheat), Pediocactus knowltonii (Knowlton cactus), Astragalus humillimus (Mancos milk-vetch), Phacelia formosula (North Park phacelia), Astragalus osterhoutii (Osterhout milk-vetch), Penstemon penlandii (Penland beardtongue) in conjunction with recovery activities throughout the species' range for the purpose of enhancing its survival and recovery.

Dated: August 25, 2008.
James J. Slack,
Regional Director, Denver, Colorado.

[FR Doc. E8-21692 Filed 9-16-08; 8:45 am]

BILLING CODE 4310-55-P